INTERNATIONAL TRADE COMMISSION

[Investigation No. 731-TA-1200 (Second Review)]

Large Residential Washers From Mexico

Determination

On the basis of the record ¹ developed in the subject five-year review, the United States International Trade Commission (“Commission”) determines, pursuant to the Tariff Act of 1930 (“the Act”), that revocation of the antidumping duty order on large residential washers from Mexico would be likely to lead to continuation or recurrence of material injury to an industry in the United States within a reasonably foreseeable time.

¹ The record is defined in § 207.2(f) of the Commission's Rules of Practice and Procedure (19 CFR 207.2(f)).

Background

The Commission instituted this review on April 1, 2024 (89 FR 22455) and determined on July 5, 2024, that it would conduct an expedited review (89 FR 67669, August 21, 2024).

The Commission made this determination pursuant to section 751(c) of the Act (19 U.S.C. 1675(c)). It completed and filed its determination in this review on October 4, 2024. The views of the Commission are contained in USITC Publication 5552 (October 2024), entitled Large Residential Washers from Mexico: Investigation No. 731-TA-1200 (Second Review).

By order of the Commission.
Issued: October 4, 2024.
Lisa Barton,
Secretary to the Commission.

[FR Doc. 2024-23379 Filed 10-8-24; 8:45 am]

BILLING CODE 7020-02-P